DEPARTMENT OF THE INTERIOR

National Park Service

National Register of Historic Places; Notification of Pending Nominations

Nominations for the following properties being considered for listing in the National Register were received by the National Park Service before April 22, 2000. Pursuant to section 60.13 of 36 CFR Part 60 written comments concerning the significance of these properties under the National Register criteria for evaluation may be forwarded to the National Register, National Park Service, 1849 C St. NW, NC400, Washington, DC 20240. Written comments should be submitted by May 17, 2000.

Carol D. Shull,
Keeper of the National Register.

ARIZONA

Yavapai County

Cottonwood Commercial Historic District, Approx. from 712 to 1124 N. Main St., Cottonwood, 00000497

INDIANA

Marion County

Hawthorne Branch Library No. 2, 70 N. Mount St., Indianapolis, 00000499

LOUISIANA

East Baton Rouge Parish

US Post Office and Courthouse—Baton Rouge, 707 Florida Ave., Baton Rouge, 00000500

Rapides Parish

US Post Office and Courthouse—Alexandria, 515 Murray St., Alexandria, 00000501

MASSACHUSETTS

Berkshire County

Main Street Cemetery, Main St., Dalton, 00000502

Plymouth County

Muttock Historic and Archaeological District Address Restricted Middleborough, 00000504

MICHIGAN

Kent County

Medical Arts Building, 26 Sheldon Blvd. SE, Grand Rapids, 00000506

MISSOURI

Greene County

Lincoln School, 815 N. Sherman Ave., Springfield, 00000508

NEW MEXICO

Otero County

US Post Office—Alamogordo, 1101 New York Ave., Alamogordo, 00000510

NORTH CAROLINA

Moore County

Lakeview Historic District, Camp Easter Rd., Crystal Lake Dr., Holly Rd., Matthews Rd., and McFayden Ln., Lakeview, 00000513

Pitt County

Sheppard Thomas, Farm, NC 1550, near jct. of NC 1552, Stokes, 00000517

OREGON

Douglas County

Hershberger Mountain Lookout, (US Forest Service Historic Structures on the Rogue River National Forest MPS), Approx. 7 mi. N of Union Ct., Prospect, 00000507

Jackson County

Dead Indian Soda Springs Shelter, (US Forest Service Historic Structures on the Rogue River National Forest MPS), Near end of S. Fork Little Butte Cr. Rd., Eagle Point, 00000498

Dutchman Peak Lookout, (US Forest Service Historic Structures on the Rogue River National Forest MPS), FS Rd., approx. 25 mi. SW of Ashland, Ashland, 00000509

Fish Lake Shelter, (US Forest Service Historic Structures on the Rogue River National Forest MPS), South of OR 140 approx. 25 mi. NE of Ashland, Ashland, 00000503

McKee Bridge Campground, (US Forest Service Historic Structures on the Rogue River National Forest MPS), Upper Applegate Rd., approx. 7 mi. S of OR 238, Jacksonville, 00000516

Mt. Stella Lookout, (US Forest Service Historic Structures on the Rogue River National Forest MPS), Approx. 2.5 mi. N of Union Cr., Prospect, 00000511

Squaw Peak Lookout, (US Forest Service Historic Structures on the Rogue River National Forest MPS), Approx. 8 mi. S of FS, Rd. 20, 25 mi. S of Jacksonville, Jacksonville, 00000512

Waleback Snow—Survey Cabin, (US Forest Service Historic Structures on the Rogue River National Forest MPS), Approx. 10 mi. N of Prospect, Prospect, 00000514

Wrangle Gap Shelter, (US Forest Service Historic Structures on the Rogue River National Forest MPS), FS, Rd. 20 approx. 25 mi. SW of Ashland, Ashland, 00000505

Klamath County

Moneymoon Creek Snow—Survey Cabin, (US Forest Service Historic Structures on the Rogue River National Forest MPS), Sky Lakes Wilderness, Ashland, 00000515

PENNSYLVANIA

Adams County

Fairfield Historic District, (Adams County properties associated with the Battle of Gettysburg MPS), Roughly bounded by Lands Dr., Steelman St., Wortz Dr., and NW border Fairfield Borough, Fairfield, 00000518

Rock Creek—White Run Union Hospital Complex, (Adams County properties associated with the Battle of Gettysburg MPS), Baltimore Pike, Goulden Rd. and White Church Rd., Mount Joy, 00000520

Lancaster County

Montgomery, William, House, 19-21 S. Queen St., Lancaster, 00000519

UTAH

Salt Lake County

Third Presbyterian Church Parsonage, 1068 E. Blaine Ave., Salt Lake City, 00000522

Warenski—Duvall Commercial Building and Apartments, (Murray City, Utah MPS), 4867 South State St., Murray, 00000521

WISCONSIN

Sauk County

Steam Locomotive #1385, E8948 Diamond Hill Rd., North Freedom, 00000524

Winnebago County

Whiting, Frank B., House, 620 E Forest Ave., Neenah, 00000523

[FR Doc. 00-10854 Filed 5-1-00; 8:45 am]

BILLING CODE 4310-10-M